DEPARTMENT OF TRANSPORTATION

Research and Special Programs Administration

[RSPA-98-4470]

Pipeline Safety: Meeting of the Hazardous Liquid Pipeline Safety Advisory Committee

AGENCY: Research and Special Programs Administration, DOT.

ACTION: Notice of Hazardous Liquid Advisory Committee Telephone Conference Meetings; Correction.

SUMMARY: This document corrects a notice published August 3, 2000 (65 FR 47821) announcing the September 11, 2000, Hazardous Liquid Pipeline Safety Advisory Committee meeting. The notice did not explain how the public could remotely participate in the meeting.

FOR FURTHER INFORMATION CONTACT: Cheryl Whetsel, OPS, (202) 366-4431 or Richard Huriaux, OPS, (202) 366-4565.

Correction

The public may remotely participate by registering with Juan Carlos Martinez, (202) 366-1933, no later than September 1, 2000. The Office of Pipeline Safety will contact all registered individuals prior to the meeting to notify them of the conference call number.

Issued in Washington, DC on August 17, 2000.
Stacey L. Gerard,
Associate Administrator for Pipeline Safety.

[FR Doc. 00-21476 Filed 8-22-00; 8:45 am]

BILLING CODE 4910-60-P